MILLENNIUM CHALLENGE CORPORATION

[MCC FR 11-13]

Notice of the December 15, 2011, Millennium Challenge Corporation Board of Directors Meeting; Sunshine Act Meeting

AGENCY: Millennium Challenge Corporation.

TIME AND DATE: 3 p.m. to 5 p.m., Thursday, December 15, 2011.

PLACE: Department of State, 2201 C Street NW., Washington, DC 20520.

FOR FURTHER INFORMATION CONTACT: Information on the meeting may be obtained from Melvin F. Williams, Jr., Vice President, General Counsel and Corporate Secretary via email at Corporatesecretary@mcc.gov or by telephone at (202) 521-3600.

STATUS: Meeting will be closed to the public.

MATTERS TO BE CONSIDERED: The Board of Directors (the “Board”) of the Millennium Challenge Corporation (“MCC”) will hold a meeting to discuss the Cape Verde Compact and the 2012 Selection Process. The agenda items are expected to involve the consideration of classified information and the meeting will be closed to the public.

Dated: November 28, 2011.
Melvin F. Williams, Jr.,
VP/General Counsel and Corporate Secretary, Millennium Challenge Corporation.

[FR Doc. 2011-30917 Filed 11-28-11; 4:15 pm]

BILLING CODE 9211-03-P